NUCLEAR REGULATORY COMMISSION

[Docket No. 50-313]

Arkansas Nuclear One, Unit 1; Notice of Consideration of Issuance of Amendment to Renewed Facility Operating License, Proposed No Significant Hazards Consideration Determination, and Opportunity for a Hearing

The U.S. Nuclear Regulatory Commission (the Commission) is considering issuance of an amendment to Renewed Facility Operating License No. DPR-51 issued to Entergy Operations, Inc. (the licensee), for operation of the Arkansas Nuclear One, Unit 1 (ANO-1), located in Pope County, Arkansas.

The proposed amendment would revise Technical Specification (TS) 3.7.14, “Spent Fuel Pool Boron Concentration,” TS 3.7.15, “Spent Fuel Pool Storage,” and the associated Figure 3.7.15-1, and TS 4.3, “Fuel Storage,” and the associated Figure 4.3.1.2-1. In addition, this amendment would add TS 5.5.17, “Metamic Coupon Sampling Program,” and Surveillance Requirement 3.7.15.2 that directs the performance of the coupon sampling program.

The proposed TS changes support a modification to the ANO-1 spent fuel pool (SFP) that would utilize Metamic® poison insert assemblies (PIAs). In addition to the proposed plant modification, the licensee would increase the SFP boron concentration and credit boron to ensure that a 5-percent subcriticality margin is maintained during normal and accident conditions. This proposed amendment also would increase the allowable initial fuel assembly uranium-235 (U-235) enrichment from 4.1 weight percent (wt%) to a maximum U-235 enrichment of 4.95 wt%.

Before issuance of the proposed license amendment, the Commission will have made findings required by the Atomic Energy Act of 1954, as amended (the Act), and the Commission's regulations.

The Commission has made a proposed determination that the amendment request involves no significant hazards consideration. Under the Commission's regulations in Title 10 of the Code of Federal Regulations (10 CFR), Section 50.92, this means that operation of the facility in accordance with the proposed amendment would not (1) Involve a significant increase in the probability or consequences of an accident previously evaluated; or (2) create the possibility of a new or different kind of accident from any accident previously evaluated; or (3) involve a significant reduction in a margin of safety. As required by 10 CFR 50.91(a), the licensee has provided its analysis of the issue of no significant hazards consideration, which is presented below:

1. Does the proposed change involve a significant increase in the probability or consequences of an accident previously evaluated?

Response: No.

Fuel Handling Accidents

The current licensing bases for the dose consequences associate with a fuel handling accident (FHA), which was performed considering a maximum U-235 enrichment of 4.95 wt% and a maximum burnup of 60,000 megawatt-days/ton of uranium, does not exceed 25% of 10 CFR 100 limits. The proposed change does not impact the current analysis and therefore, there is no increase in the dose consequences associated with a[n] FHA.

The probability of having a[n] FHA has not increased. Although it could be postulated that a Metamic® panel could be dropped during installation, the approximate 50 pound weight of the panel falling on the racks is bounded by the current fuel assembly drop analysis.

Criticality Accidents Associated With a Dropped Fuel Assembly

The three fuel assembly drop accidents described below can be postulated to increase reactivity. However, for these accident conditions, the double contingency principle of ANS[I] [American National Standards Institute] N-16.1-1975 is applied. This states that is is unneccessary to assume two unlikely, independent, concurrent events to ensure protection against a criticality accident. Thus, for accident conditions, the presence of soluble boron in the storage pool water can be assumed as a realistic initial condition since its absence would be a second unlikely event.

Three types of drop accidents have been considered: A vertical drop accident, a horizontal drop accident, and an inadvertent drop of an assembly between the outside periphery of the rack and the pool wall. The structural damage to the pool liner, the racks, and fuel assembly resulting from a dropped fuel assembly striking the rack, the pool floor, or another assembly located in the racks is primarily dependent on the mass of the falling object and drop height. Since these two parameters are not changed by the proposed modification, the postulated structural damage to these items remains unchanged. In all cases the proposed TS limit for boron concentration ensures that a five percent subcriticality margin is met for the postulated accidents.

Criticality Accidents Associated With a Misplaced Fuel Assembly

The fuel assembly misplacement accident was considered for all storage configurations. An assembly with high reactivity is assumed to be placed in a storage location which requires restricted storage based on initial U-235 loading, cooling time, and burnup. The presence of boron in the pool water assumed in the analysis has been shown to offset the worst case reactivity effect of a misplaced fuel assembly for any configuration. This boron requirement is less than the boron concentration required by the ANO-1 TS. Thus, a five percent subcriticality margin is met for postulated accidents, since any reactivity increase will be much less than the negative worth of the dissolved boron.

Optimum Moderation Accident

For fuel storage applications in the SFP, water is usually present. An “optimum moderation” accident is not a concern in SFP storage racks because the rack design prevents the preferential reduction of water density between the cells of a rack (e.g., boiling between cells). In addition, the criticality analysis has demonstrated that keff [k-effective] will remain less than 1.0 when the SFP is fully flooded with unborated water.

An “optimum moderation” accident in the new fuel vault was evaluated and the conclusions of that evaluation confirmed that the reactivity effect is less than the regulatory limit of 0.98 for keff.

Loss of SFP Cooling

The proposed changes to the ANO-1 SFP racks do not result in changes to the SFP cooling system and therefore the probability of a loss of SFP cooling is not increased.

The consequences of a loss of spent fuel pool cooling were evaluated and found to not involve a significant increase as a result of the proposed changes. A thermal-hydraulic evaluation for the loss of SFP cooling was performed. The analysis determined that the minimum time to boil is more than three hours following a complete loss of forced cooling. This provides sufficient time for the operators to restore cooling or establish an alternate means of cooling before the water shielding above the top of the racks falls below 10 feet. Therefore, the proposed change represents no increase in the consequences of loss of pool cooling.

Therefore, the proposed change does not involve a significant increase in the probability or consequences of an accident previously evaluated.

2. Does the proposed change create the possibility of a new or different kind of accident from any accident previously evaluated?

Response: No.

The presence of soluble boron in the pool water assumed in the criticality analysis is less than the boron concentration required by the ANO-1 TSs. Thus, a five percent subcriticality margin is met for postulated accidents, since any reactivity increase will be much less than the negative worth of the dissolved boron.

No new or different types of fuel assembly drop scenarios are created by the proposed change. During the installation of the Metamic® panels, the possible drop of a panel is bounded by the current fuel assembly drop analysis. No new or different fuel assembly misplacement accidents will be created. Administrative controls currently exist to assist in assuring fuel misplacement does not occur.

No changes are proposed to the spent fuel pool cooling system or makeup systems and therefore no new accidents are considered related to the loss of cooling or makeup capability.

Therefore, the proposed change does not create the possibility of a new or different kind of accident from any previously evaluated.

3. Does the proposed change involve a significant reduction in a margin of safety?

Response: No.

With the presence of a nominal boron concentration, the SFP storage racks will be designed to assure a subcritical array with a five percent subcritical margin (95% probability at the 95% confidence level). This has been verified by criticality analyses.

Credit for soluble boron in the SFP water is permitted under accident conditions. The proposed modification that will allow insertion of Metamic® poison panels does not result in the potential of any new misplacement scenarios. Criticality analyses have been performed to determine the required boron concentration that would ensure the maximum keff does not exceed 0.95. The ANO-1 TS for the minimum SFP boron concentration is greater than that required to ensure keff does not exceed 0.95. Therefore, the margin of safety defined by taking credit for soluble boron will be maintained.

The structural analysis of the spent fuel racks along with the evaluation of the SFP structure indicated that the integrity of these structures will be maintained with the addition of the PIAs. The structural requirements were shown to be satisfied, thus the safety margins were maintained.

In addition the proposed change includes a coupon sampling program that will monitor the physical properties of the Metamic® absorber material. The monitoring program provides a method of verifying that the assumptions used in the SFP criticality analyses remain valid.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example, in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rulemaking, Directives and Editing Branch, Division of Administrative Services, Office of Administration, U.S. Nuclear Regulatory Commission, Washington, DC 20555-0001, and should cite the publication date and page number of this Federal Register notice. Written comments may also be delivered to Room 6D59, Two White Flint North, 11545 Rockville Pike, Rockville, Maryland, from 7:30 a.m. to 4:15 p.m. Federal workdays. Documents may be examined, and/or copied for a fee, at the NRC's Public Document Room (PDR), located at One White Flint North, Public File Area O1F21, 11555 Rockville Pike (first floor), Rockville, Maryland.

The filing of requests for hearing and petitions for leave to intervene is discussed below.

Within 60 days after the date of publication of this notice, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR Part 2. Interested persons should consult a current copy of 10 CFR 2.309, which is available at the Commission's PDR, located at One White Flint North, Public File Area O1F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address and telephone number of the requestor or petitioner; (2) the nature of the requestor's/petitioner's right under the Act to be made a party to the proceeding; (3) the nature and extent of the requestor's/petitioner's property, financial, or other interest in the proceeding; and (4) the possible effect of any decision or order which may be entered in the proceeding on the requestors/petitioner's interest. The petition must also identify the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner intends to rely in proving the contention at the hearing. The petitioner/requestor must also provide references to those specific sources and documents of which the petitioner is aware and on which the petitioner intends to rely to establish those facts or expert opinion. The petition must include sufficient information to show that a genuine dispute exists with the applicant on a material issue of law or fact. Contentions shall be limited to matters within the scope of the amendment under consideration. The contention must be one which, if proven, would entitle the petitioner to relief. A petitioner/requestor who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

Nontimely requests and/or petitions and contentions will not be entertained absent a determination by the Commission or the presiding officer of the Atomic Safety and Licensing Board that the petition, request and/or the contentions should be granted based on a balancing of the factors specified in 10 CFR 2.309(c)(1)(i)-(viii).

A request for a hearing or a petition for leave to intervene must be filed by: (1) First class mail addressed to the Office of the Secretary of the Commission, U.S. Nuclear Regulatory Commission, Washington, DC 20555-0001, Attention: Rulemaking and Adjudications Staff; (2) courier, express mail, and expedited delivery services: Office of the Secretary, Sixteenth Floor, One White Flint North, 11555 Rockville Pike, Rockville, Maryland, 20852, Attention: Rulemaking and Adjudications Staff; (3) e-mail addressed to the Office of the Secretary, U.S. Nuclear Regulatory Commission, HEARINGDOCKET@NRC.GOV; or (4) facsimile transmission addressed to the Office of the Secretary, U.S. Nuclear Regulatory Commission, Washington, DC, Attention: Rulemakings and Adjudications Staff at (301) 415-1101, verification number is (301) 415-1966. A copy of the request for hearing and petition for leave to intervene should also be sent to the Office of the General Counsel, U.S. Nuclear Regulatory Commission, Washington, DC 20555-0001, and it is requested that copies be transmitted either by means of facsimile transmission to 301-415-3725 or by e-mail to OGCMailCenter@nrc.gov. A copy of the request for hearing and petition for leave to intervene should also be sent to Terence A. Burke, Associate General Council—Nuclear Entergy Services, Inc., 1340 Echelon Parkway, Jackson, Mississippi 39213, the attorney for the licensee.

For further details with respect to this action, see the application for amendment dated July 27, 2006, as supplemented by letters dated October 4 and October 9, 2006, which is available for public inspection at the Commission's PDR, located at One White Flint North, File Public Area O1F21, 11555 Rockville Pike (first floor), Rockville, Maryland. Publicly available records will be accessible from the ADAMS Public Electronic Reading Room on the Internet at the NRC Web site, http://www.nrc.gov/reading-rm/adams.html. Persons who do not have access to ADAMS or who encounter problems in accessing the documents located in ADAMS, should contact the NRC PDR Reference staff by telephone at 1-800-397-4209, 301-415-4737, or by e-mail to pdr@nrc.gov.

Dated at Rockville, Maryland, this 15th day of December 2006.
For The Nuclear Regulatory Commission.
Farideh E. Saba,
Project Manager, Plant Licensing Branch IV, Division of Operating Reactor Licensing, Office of Nuclear Reactor Regulation.

[FR Doc. E6-22026 Filed 12-22-06; 8:45 am]

BILLING CODE 7590-01-P